FEDERAL MINE SAFETY AND HEALTH REVIEW COMMISSION

Meeting; Sunshine Act

December 21, 2004.

Time and Date: 10 a.m., Thursday, January 6, 2005.

Place: The Richard V. Backley Hearing Room, 9th Floor, 601 New Jersey Avenue, NW., Washington, DC.

Status: Open.

Matters to be Considered: The Commission will consider and act upon the following in open session:

Secretary of Labor v. Speed Mining, Inc., Docket Nos. WEVA 2004-187-R and WEVA 2004-195-R. (Issues include whether the judge erred in affirming two citations alleging violations of a modification of 30 CFR 75.1700 issued to Speed Mining, Inc. so that it could mine by and through oil and gas wells.)

Any person attending this meeting who requires special accessibility features and/or auxiliary aids, such as sign language interpreters, must inform the Commission in advance of those needs. Subject to 29 CFR 2706.150(a)(3) and 2706.160(d).

FOR FURTHER INFORMATION CONTACT: Jean Ellen, (202) 434-9950/(202 708-9300 for TDD Relay/1-800-877-8339 for toll free.

Jean H. Ellen,
Chief Docket Clerk.

[FR Doc. 04-28650 Filed 12-27-04; 3:07 pm]

BILLING CODE 6735-01-M